DEPARTMENT OF HEALTH AND HUMAN SERVICES

Meeting of the Presidential Advisory Council on HIV/AIDS

AGENCY: Office of the Assistant Secretary for Health, Office of the Secretary, Department of Health and Human Services.

ACTION: Notice; Solicitation of nominations for appointment to Presidential Advisory Council on HIV/AIDS (PACHA).

SUMMARY: The Office of the Assistant Secretary for Health (OASH) is seeking nominations for membership on the Presidential Advisory Council on HIV/AIDS (referred to as PACHA and/or the Council). The PACHA is a federal advisory committee within the U. S. Department of Health and Human Services (HHS). Management support for the activities of this Council is the responsibility of the OASH. The qualified individuals will be nominated to the Secretary of Health and Human Services for consideration for appointment as members of the PACHA. Members of the Council, including the Chair, are appointed by the Secretary. Members are invited to serve for overlapping terms of up to four-year; terms of more than two years are contingent upon the authorized continuation of the Council. The Council was established to provide advice, information, and recommendations to the Secretary regarding programs, policies, and research to promote effective treatment, prevention and cure of HIV and AIDS, including considering common co-morbidities, as needed to promote effective HIV diagnosis, treatment, prevention, and quality care services. The functions of the Council are solely advisory in nature.

DATES: Nominations for membership on the PACHA must be received no later than 8:00 p.m. (ET) Friday, January 5, 2024. Packages received after this time will not be considered for the current membership cycle.

ADDRESSES: All nominations should be emailed in one email to PACHA@hhs.gov with the subject line “PACHA Application 2024.”

FOR FURTHER INFORMATION CONTACT: Ms. Caroline Talev, Senior Management Analyst and Alternate Designated Federal Officer to PACHA; email Caroline.Talev@hhs.gov and include in the subject line “PACHA Application 2024” or please call 202-795-7697. Additional information about PACHA can be obtained by accessing the Council's website at About PACHA | HIV.gov.

SUPPLEMENTARY INFORMATION: PACHA was established by Executive Order 12963, dated June 14, 1995 as amended by Executive Order 13009, dated June 14, 1996. Under a Presidential memorandum, dated July 13, 2000 and under Executive Order 13703, dated July 30, 2015, certain authorities were given to the PACHA for the implementation of the National HIV/AIDS Strategy for the United States (Strategy or NHAS). The Council was continued by Executive Order 14048, dated September 30, 2021. The Council was established to provide advice, information, and recommendations to the Secretary regarding programs and policies intended to promote effective prevention of HIV disease and AIDS. The functions of the Council are solely advisory in nature. The Council consists of not more than 35 members. Council members are selected from prominent community leaders with particular expertise in, or knowledge of, matters concerning HIV and AIDS, public health, global health, population health, faith, philanthropy, marketing or business, as well as other national leaders held in high esteem from other sectors of society. PACHA selections will also include persons with lived HIV experience and racial/ethnic and sexual and gender minority persons disproportionately affected by HIV. Council members are appointed by the Secretary. Pursuant to advance written agreement, Council members shall receive no stipend for the advisory service they render as members of PACHA. However, as authorized by law and in accordance with Federal travel regulations, PACHA members may receive per diem and reimbursement for travel expenses incurred in relation to performing duties for the Council.

This announcement is to solicit nominations of qualified candidates to fill current and upcoming vacancies on the PACHA.

Nominations

Nominations are being sought for individuals who have expertise and qualifications necessary to contribute to the accomplishments of PACHA's objectives. Federal employees will not be considered for membership. The membership of the Committee will reflect diverse individuals. To ensure that the Commission membership is fairly balanced in terms of the points of view presented, consideration is also given to organizations representing the health interest of racial and ethnic minority groups. Appointments shall be made without discrimination on the basis of age, race, ethnicity, gender, sexual orientation, gender identity, HIV status, disability, and cultural, religious, or socioeconomic status. Nominees must be U.S. citizens, and cannot be full-time employees of the U.S. Government. Committee members are Special Government Employees (SGEs), requiring the filing of financial disclosure reports at the beginning and annually during their terms. Individuals who are selected for appointment will be required to provide detailed information regarding their financial interests. Note that the need for different expertise varies from year to year and a candidate who is not selected for an open position may be reconsidered for a subsequent open position. SGE nominees must be U.S. citizens, and cannot be full-time employees of the U.S. Government. Candidates should submit the following items to be considered of appointment:

• Current curriculum vitae or resume, including complete contact information (telephone numbers, mailing address, email address).

• A biographical sketch of the nominee (200 words or fewer).

• A letter of interest or personal statement from the nominee stating how their expertise would inform the work of PACHA.

• At least one letter of recommendation from person(s) not employed by the U.S. Department of Health and Human Services.

Individuals can nominate themselves for consideration of appointment to the Council. All nominations must include the required information in one email sent to PACHA.hhs.gov with the subject line, “PACHA Application 2024.” Incomplete nomination applications will not be processed for consideration.

The Department is legally required to ensure that the membership of HHS Federal advisory committees is fairly balanced in terms of points of view represented and the functions to be performed by the advisory committee. Appointment to the Council shall be made without discrimination on the basis of age, race, ethnicity, gender, sexual orientation, disability, and cultural, religious, or socioeconomic status. The Standards of Ethical Conduct for Employees of the Executive Branch are applicable to individuals who are appointed as members of the Council.

Dated: August 21, 2023.
Caroline Talev,
Senior Management Analyst, Alternate Designated Federal Officer, PACHA, Office of Infectious Disease and HIV/AIDS Policy, Office of the Assistant Secretary for Health, U.S. Department of Health and Human Services.

[FR Doc. 2023-18261 Filed 8-23-23; 8:45 am]

BILLING CODE 4150-43-P